DEPARTMENT OF TRANSPORTATION

Federal Railroad Administration

[Docket Number FRA-2018-0012]

TEXRail's Request To Amend Its Positive Train Control Safety Plan and Positive Train Control System

AGENCY: Federal Railroad Administration (FRA), Department of Transportation (DOT).

ACTION: Notice of availability and request for comments.

SUMMARY: This document provides the public with notice that, on October 31, 2024, TEXRail (TEX) submitted its Positive Train Control Safety Plan (PTCSP), Version 2.0, dated October 9, 2024, to FRA's Secure Information Repository. TEX asks FRA to approve its updated PTCSP and certify TEX's Interoperable Electronic Train Management System (I-ETMS) as a “mixed” positive train control (PTC) system. As this RFA may involve a request for FRA's approval of proposed material modifications to an FRA-certified PTC system, FRA is publishing this notice and inviting public comment on TEX's RFA to its PTCSP.

DATES: FRA will consider comments received by February 10, 2025 before taking final action on the PTCSP. FRA may consider comments received after that date to the extent practicable and without delaying implementation of valuable or necessary modifications to a PTC system.

ADDRESSES:

Comments: Comments may be submitted by going to https://www.regulations.gov and following the online instructions for submitting comments.

Instructions: All submissions must include the agency name and the applicable docket number. The relevant PTC docket number for this railroad is Docket No. FRA-2018-0012. For convenience, all active PTC dockets are hyperlinked on FRA's website at https://railroads.dot.gov/research-development/program-areas/train-control/ptc/railroads-ptc-dockets. All comments received will be posted without change to https://www.regulations.gov; this includes any personal information.

FOR FURTHER INFORMATION CONTACT: Gabe Neal, Staff Director, Signal, Train Control, and Crossings Division, telephone: 816-516-7168, email: Gabe.Neal@dot.gov.

SUPPLEMENTARY INFORMATION: In general, title 49 United States Code (U.S.C.) section 20157(h) requires FRA to certify that a host railroad's PTC system complies with title 49 Code of Federal Regulations (CFR) part 236, subpart I, before the technology may be operated in revenue service. Before making certain changes to an FRA-certified PTC system or the associated FRA-approved PTCSP, a host railroad must submit, and obtain FRA's approval of, an RFA to its PTCSP under 49 CFR 236.1021.

Under 49 CFR 236.1021(e), FRA's regulations provide that FRA will publish a notice in the Federal Register and invite public comment in accordance with 49 CFR part 211, if an RFA includes a request for approval of a material modification of a signal or train control system. Accordingly, this notice informs the public that, on October 31, 2024, TEX submitted an RFA to its PTCSP for its I-ETMS PTC system which seeks FRA's approval to change the classification of its PTC system to a Mixed PTC system. In its PTCSP, TEX asserts that the I-ETMS PTC system it is implementing is a mixed PTC system as defined in Title 49 Code of Federal Regulations (CFR) 236.1015(e). The PTCSP describes TEX's I-ETMS implementation and the associated I-ETMS safety processes, safety analyses, and test, validation, and verification processes used during the development of I-ETMS. The PTCSP also contains TEX's operational and support requirements and procedures. That RFA is available in Docket No. FRA-2018-0012. Interested parties are invited to comment on TEX's RFA to its PTCSP by submitting written comments or data. During FRA's review of TEX's RFA, FRA will consider any comments or data submitted within the timeline specified in this notice and to the extent practicable, without delaying implementation of valuable or necessary modifications to a PTC system. See 49 CFR 236.1021; see also 49 CFR 236.1011(e). However, FRA may elect not to respond to any particular comment, and under 49 CFR 236.1009(d)(3), FRA maintains the authority to approve or disapprove the PTCSP at its sole discretion.

Privacy Act Notice

In accordance with 49 CFR 211.3, FRA solicits comments from the public to better inform its decisions. DOT posts these comments, without edit, including any personal information the commenter provides, to https://www.regulations.gov, as described in the system of records notice (DOT/ALL-14 FDMS), which can be reviewed at https://www.transportation.gov/privacy. See https://www.regulations.gov/privacy-notice for the privacy notice of regulations.gov. To facilitate comment tracking, we encourage commenters to provide their name, or the name of their organization; however, submission of names is completely optional. If you wish to provide comments containing proprietary or confidential information, please contact FRA for alternate submission instructions.

Issued in Washington, DC.

Carolyn R. Hayward-Williams,
Director, Office of Railroad Systems and Technology.

[FR Doc. 2024-29083 Filed 12-10-24; 8:45 am]

BILLING CODE 4910-06-P